DEPARTMENT OF TRANSPORTATION

Federal Aviation Administration

Public Meeting/Notice of Availability, Review, and Comment on Preliminary Alternatives for the Development of an Air Tour Management Plan for Hawaii Volcanoes National Park, HI

AGENCY: Federal Aviation Administration (FAA), DOT.

ACTION: Notice of public meeting, request for comments, and availability of preliminary alternatives, correction.

SUMMARY: This action corrects an error in the notice of public meeting, request for comments, and availability of preliminary alternatives published in the Federal Register on Tuesday, March 29, 2011, announcing the availability of preliminary air tour alternatives and announcing meetings hosted by the National Park Service, Hawaii Volcanoes National Park and the FAA's Air Tour Management Program. This document corrects two Web sites for public comments.

DATES: Comment Period: Comments must be received on or before June 6, 2011.

Meetings: The meetings will be held at the following locations, dates, and times:

Volcano, Hawaii, Monday, April 18, 2011, 5:30-7:30 p.m., Hawai`i Volcanoes National Park, Kīlauea Visitor Center, 1 Crater Rim Drive.

Pāhoa, Hawaii, Tuesday, April 19, 2011, 5-7 p.m., Pāhoa Community Center, 15-2910 Puna Rd.

Nā`ālehu, Hawaii, Wednesday, April 20, 2011, 5:00-7:00 p.m., Nā`ālehu Community Center, 95-5635 Mamalahoa Highway.

FOR FURTHER INFORMATION CONTACT: Ms. Vicki McCusker, National Park Service, Natural Resource Program Center, Natural Sounds and Night Skies Division, 1201 Oakridge Drive, Suite 100, Fort Collins, CO 80525; telephone: (970) 267-2117 or Mr. Larry Tonish, Federal Aviation Administration, Air Tour Management Program, AWP-1SP, 15000 Aviation Blvd., Hawthorne, CA 90250; telephone: (310) 725-3817.

SUPPLEMENTARY INFORMATION:

History

On Tuesday, March 29, 2011, a notice of public meeting, request for comments, and availability of preliminary alternatives was published in the Federal Register concerning proposed alternatives available to the public which contain routes and altitudes used by air tour operators when providing air tours of the Hawaii Volcanoes National Park. A couple of web sites for the public to submit comments were incorrect. This action provides the correct information.

Correction

1. In the Notice document FR Doc. 2011-7310, as published on March 29, 2011 (76 FR 17472) on page 17473 column one, at the end of the first full paragraph, make the following correction:

Remove the Web site http://parkplanning.nps.gov/documentsAndLinks.cfm?projectID=29122 and in it's place add: http://parkplanning.nps.gov/projectHome.cfm?projectID=36002.

2. In the Notice document FR Doc. 2011-7310, as published on March 29, 2011 (76 FR 17472) on page 17473 column one, at the end of the fourth full paragraph, that begins with NPS Planning, Environment and Public Comment Web site, make the following correction:

Remove the Web site http://parkplanning.nps.gov/documentsAndLinks.cfm?projectID=29122 and in it's place add http://parkplanning.nps.gov/projectHome.cfm?projectID=36002.

Issued in Hawthorne, California on March 31, 2011.
Larry Tonish,
Program Manager, Air Tour Management Program.

[FR Doc. 2011-8282 Filed 4-6-11; 8:45 am]

BILLING CODE 4910-13-P